DEPARTMENT OF COMMERCE

National Oceanic and Atmospheric Administration

[I.D.061202D]

Endangered Species; File No. 1324

AGENCY: National Marine Fisheries Service (NMFS), National Oceanic and Atmospheric Administration (NOAA), Commerce.

ACTION: Issuance of permit amendment.

SUMMARY: Notice is hereby given that Dr. Nancy Thompson, National Marine Fisheries Service, Southeast Fisheries Science Center (SEFSC) has been issued an amendment to scientific research Permit No. 1324.

ADDRESSES: The amendment and related documents are available for review upon written request or by appointment in the following office(s):

Permits, Conservation and Education Division, Office of Protected Resources, NMFS, 1315 East-West Highway, Room 13705, Silver Spring, MD 20910; phone (301)713-2289; fax (301)713-0376;

Southeast Region, NMFS, 9721 Executive Center Drive North, St. Petersburg, FL 33702-2432; phone (727)570-5301; fax (727)570-5320.

FOR FURTHER INFORMATION CONTACT: Lillian Becker or Ruth Johnson, (301)713-2289.

SUPPLEMENTARY INFORMATION: On September 27, 2001, notice was published in the Federal Register (66 FR 49353) that a modification of Permit No. 1324, issued August 9, 2001 (66 FR 42995), had been requested by the above-named organization. The requested modification has been granted under the authority of the Endangered Species Act of 1973, as amended (ESA; 16 U.S.C. 1531 et seq.) and the regulations governing the taking, importing, and exporting of endangered and threatened species (50 CFR parts 222-226).

The modification requested the increase in authorized lethal take of leatherback turtles from one to two over the life of the permit and to increase the authorized lethal take of green, hawksbill, and Kemp's ridley turtles, in combination, from one to two. It was also requested to include the category of unidentifiable turtles to the lethal take. The request to increase lethal takes of turtles was withdrawn. An additional request to modify the experimental design for 2002 to test the effects of soak times, mackerel bait, and the use of 18/0 circle hooks was authorized. This modification to the research design will decrease the number of turtles caught and the magnitude of the injury if they are caught. This new experimental design decreases the number of hooks used by 121,908 to 324,324.

Issuance of this amendment, as required by the ESA was based on a finding that such permit (1) was applied for in good faith, (2) will not operate to the disadvantage of the endangered species which is the subject of this permit, and (3) is consistent with the purposes and policies set forth in section 2 of the ESA.

Dated: June 26, 2002.
Trevor Spradlin,
Acting Chief, Permits, Conservation and Education Division, Office of Protected Resources, National Marine Fisheries Service.

[FR Doc. 02-16601 Filed 7-1-02; 8:45 am]

BILLING CODE 3510-22-S